DEPARTMENT OF TRANSPORTATION

Surface Transportation Board

[STB Docket No. MC-F-21028]

Delivery Acquisition, Inc.—Purchase—Transportation Management Systems, LLC and East West Resort Transportation, LCC

AGENCY: Surface Transportation Board.

ACTION: Notice of Correction.

SUMMARY: This document contains a correction to a decision served and published in the Federal Register on July 18, 2008 (73 FR 41401-02). That decision tentatively approved the acquisition of control through purchase of Transportation Management Systems, LLC, f/k/a TMS, Inc. (TMS) and East West Resort Transportation, LLC (EWRT) by Delivery Acquisition, Inc. (Delivery), unless opposing comments were filed by September 2, 2008. No comments were subsequently filed with the Board and the Board's decision approving the proposed acquisition of control thus became effective on September 2, 2008. After the period for filing comments ended, the Board received notification from the applicants in this proceeding that references they had made in the application approved by the Board to operating rights issued by the former Interstate Commerce Commission (ICC) in Docket No. MC-169714 were incorrect, and that the correct number is MC-169174. Accordingly, the July 18 decision is being corrected to reflect the actual docket number of MC-169174, rather than MC-169714.

FOR FURTHER INFORMATION CONTACT: Julia Farr (202) 245-0359 [Federal Information Relay (FIRS) for the hearing impaired: 1-800-877-8339].

SUPPLEMENTARY INFORMATION: On September 2, 2008, the Board's approval of Delivery's acquisition of TMS and EWRT became effective. On November 13, 2008, the Board received notification from the applicants that their application misstated that certain of the operating rights held or leased by TMS, and EWRT had been issued by the former ICC in Docket No. MC-169714. The correct docket number is MC-169174.

A copy of this notice will be served on: (1) The U.S. Department of Transportation, Federal Motor Carrier Safety Administration, 1200 New Jersey Avenue, SE., Washington, DC 20590; (2) the U.S. Department of Justice, Antitrust Division, 950 Pennsylvania Avenue, NW., Washington, DC 20530; and (3) the U.S. Department of Transportation, Office of the General Counsel, 1200 New Jersey Avenue, SE., Washington, DC 20590.

Decided: November 20, 2008.
By the Board, Anne K. Quinlan, Acting Secretary.
Kulunie L. Cannon,
Clearance Clerk.

[FR Doc. E8-28089 Filed 11-25-08; 8:45 am]

BILLING CODE 4915-01-P